DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Correction: This notice was published in the Federal Register on January 3, 2006, volume 71, Number 1, Page 120-121. The meeting times/dates and “matters to be discussed” have been changed.

Subcommittee Meeting Time and Date: 9 a.m.-2 p.m., January 24, 2006.

Committee Meeting Times and Dates: 2:30 a.m.-5 p.m., January 24, 2006. 8:30 a.m.-5 p.m., January 25, 2006. 8:30 a.m.-4:30 p.m., January 26, 2006.

Matters to be Discussed: The agenda for the Subcommittee meeting includes Task 3 review; review of Bethlehem Steel, Rocky Flats, and Y-12 site profiles; and individual dose reconstruction reviews. The agenda for the Board meeting includes Reports from the Subcommittee and Working Groups; Pacific Proving Grounds Special Exposure Cohort (SEC) Evaluation Report and Supplement; Site Profiles for Bethlehem Steel, Rocky Flats, Y-12, Hanford, Nevada Test Site, and Savannah River Site; Letter from Steel Workers; SEC Rule rewrite; Task 3 review of SC&A Contract; Conflict of Interest issues; Dose Reconstruction Reviews; an update on Science Issues which will include but not be limited to Lymphoma—Dose Reconstruction Target Organ Selection; future schedules; procedures for the Board to use in reviewing SEC petitions (including a discussion of the Y-12 SEC Petition). The evening public comment sessions are scheduled for January 24 from 5:30 p.m.-6:30 p.m. and January 25 from 7 p.m.-8:30 p.m.

For Further Information Contact: Dr. Lewis V. Wade, Executive Secretary, NIOSH, CDC, 4676 Columbia Parkway, Cincinnati, Ohio 45226, telephone 513-533-6825, fax 513-533-6826.

The Director, Management Analysis and Services Office, has been delegated the authority to sign Federal Register notices pertaining to announcements of meetings and other committee management activities for both CDC and the Agency for Toxic Substances and Disease Registry.

Dated: January 9, 2006.
Alvin Hall,
Director, Management Analysis and Services Office, Centers for Disease Control and Prevention.

[FR Doc. E6-436 Filed 1-17-06; 8:45 am]

BILLING CODE 4163-18-P